DEPARTMENT OF LABOR

Employment and Training Administration

[TA-W-59,231]

Waterbury Rolling Mills; Olin Corporation; Waterbury, CT; Notice of Termination of Investigation

Pursuant to Section 221 of the Trade Act of 1974, as amended, an investigation was initiated on April 18, 2006 in response to a worker petition filed by a company official on behalf of workers at Waterbury Rolling Mills, Olin Corporation, Waterbury, Connecticut.

The petitioner has requested that the petition be withdrawn. Consequently, the investigation has been terminated.

Signed at Washington, DC, this 31st day of May, 2006.
Elliott S. Kushner,
Certifying Officer, Division of Trade Adjustment Assistance.

[FR Doc. E6-9990 Filed 6-23-06; 8:45 am]

BILLING CODE 4510-30-P